DEPARTMENT OF THE INTERIOR

Bureau of Land Management

[17XL 1109AF LLUT92000 L13100000 FI0000 241A]

Notice of Proposed Class II Reinstatement of Terminated Oil and Gas Leases, Utah

AGENCY: Bureau of Land Management, Interior.

ACTION: Notice of reinstatement.

SUMMARY: In accordance with Title IV of the Federal Oil and Gas Royalty Management Act, Crescent Point Energy and EnCana Oil & Gas USA Inc. timely filed a petition for reinstatement of oil and gas leases UTU74837 and UTU75675 for lands in Uintah County, Utah, along with all required rentals and royalties accruing from October 1, 2014, the date of termination. The Bureau of Land Management proposes to reinstate the leases.

FOR FURTHER INFORMATION CONTACT: Kent Hoffman, Deputy State Director, Lands and Minerals, Utah State Office, Bureau of Land Management (BLM), 440 West 200 South, Suite 500, Salt Lake City, Utah, 84101, phone 801-539-4063, Email: khoffman@blm.gov.

Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The lessee has agreed to new lease terms for rental and royalty. The rental for UTU74837 and UTU75675 will increase to $10 per acre and the royalty to 16⅔ percent. The $500 administrative fee for the leases has been paid, and the lessee has reimbursed the BLM for the cost of publishing this Notice.

The following-described lands in Uintah County, Utah, include:

UTU74837

Salt Lake Meridian, Utah

T. 7 S., R 20 E.,

Sec. 29, NE1/4SW1/4, N1/2SE1/4, SE1/4SE1/4.

The area described contains 160 acres.

UTU75675

Salt Lake Meridian, Utah

T. 7 S., R 20 E.,

Sec. 6, S1/2SE1/4;

Sec. 7: N1/2NE1/4.

The area described contains 160 acres.

As the lessee has met all of the requirements for reinstatement of the leases set out in Section 31(d) and (e) of the Mineral Leasing Act of 1920 (30 U.S.C. 188), the BLM is proposing to reinstate the leases 30 days following publication of the Notice, with an effective date of Sept. 1, 2014, subject to the original terms and conditions of the leases and the increased rental and royalty rates cited above.

The leases are subject to the new terms and conditions and the increased rental and royalty rates cited above, and an extension for 2 years from the date the leases are reinstated in accordance with 43 CFR 3108.2-3(e). Three lease notices are being added to UTU75675, (1) UT-LN-131: Sage Grouse Net Conservation Gain; (2) UT-LN-132: Sage Grouse Required Design Features; and (3) UT-LN-133: Greater Sage Grouse Buffer.

Authority: Mineral Leasing Act of 1920 (30 U.S.C. 188).

Edwin L. Roberson,
State Director.

[FR Doc. 2017-19345 Filed 9-11-17; 8:45 am]

BILLING CODE 4310-DQ-P